FEDERAL ELECTION COMMISSION

Sunshine Act Meetings

AGENCY: Federal Election Commission.

DATE AND TIME: Wednesday, April 23, 2014 At 11:00 a.m. (or conclusion of audit hearing).

PLACE: 999 E Street NW., Washington, DC (Ninth Floor).

STATUS: This meeting will be open to the public.

ITEMS TO BE DISCUSSED: Correction and Approval of Minutes for April 3, 2014.

Draft Advisory Opinion 2014-02: Make Your Laws PAC, Inc.

Audit Division Recommendation Memorandum on the Nebraska Democratic Party (NDP) (A11-18).

Proposed Final Audit Report on the State Democratic Executive Committee of Alabama (A11-22).

Management and Administrative Matters: Enhanced and Expanded Search Capability on the FEC's Web site.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2014-09103 Filed 4-17-14; 4:15 pm]

BILLING CODE 6715-01-P